DEPARTMENT OF TRANSPORTATION

Federal Motor Carrier Safety Administration

[Docket ID. FMCSA-2009-0303]

Qualification of Drivers; Exemption Applications; Vision

AGENCY: Federal Motor Carrier Safety Administration (FMCSA), DOT.

ACTION: Notice of applications for exemptions; request for comments.

SUMMARY: FMCSA announces receipt of applications from 27 individuals for exemption from the vision requirement in the Federal Motor Carrier Safety Regulations. If granted, the exemptions would enable these individuals to qualify as drivers of commercial motor vehicles (CMVs) in interstate commerce without meeting the Federal vision standard.

DATES: Comments must be received on or before December 21, 2009.

ADDRESSES: You may submit comments bearing the Federal Docket Management System (FDMS) Docket ID FMCSA-2009-0303 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 27 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Teddy S. Bioni

Mr. Bioni, age 47, has complete loss of vision in his left eye. The best corrected visual acuity in his right eye is 20/20. Following an examination in 2009, his ophthalmologist noted, “I believe he has sufficient vision to perform driving tasks required to operate a commercial vehicle.” Mr. Bioni reported that he has driven straight trucks for 28 years, accumulating 140,000 miles, and tractor-trailer combinations for 28 years, accumulating 140,000 miles. He holds a Class A CDL from Pennsylvania. His driving record for the last 3 years shows no crashes and no convictions for moving violations in a CMV.

John K. Butler

Mr. Butler, 55, has had amblyopia in his right eye since childhood. The best corrected visual acuity in his right eye is 20/200, and in his left eye, 20/20. Following an examination in 2009, his ophthalmologist noted, “Mr. Butler displays sufficient vision to perform the driving tasks required to operate a commercial vehicle.” Mr. Butler reported that he has driven straight trucks for 6 years, accumulating 156,000 miles, and tractor-trailer combinations for 29 years, accumulating 452,400 miles. He holds a Class A CDL from Connecticut. His driving record for the last 3 years shows no crashes and no convictions for moving violations in a CMV.

James J. Coffield

Mr. Coffield, 47, has loss of vision in his left eye due a traumatic injury sustained 25 years ago. The best corrected visual acuity in his right eye is 20/20, and in his left eye, 20/200. Following an examination in 2009, his optometrist noted, “In my opinion, Mr. Coffield has sufficient visual performance to meet the driving requirements for a commercial vehicle operation license.” Mr. Coffield reported that he has driven tractor-trailer combinations for 14 years, accumulating 770,000 miles. He holds a Class A Commercial Driver's License (CDL) from New Mexico. His driving record for the last 3 years shows no crashes and no convictions for moving violations in a CMV.

Roy E. Crayne

Mr. Crayne, 57, has a macular hole in his left eye due to a traumatic injury sustained as a child. The visual acuity in his right eye is 20/20, and in his left eye, 20/400. Following an examination in 2009, his ophthalmologist noted, “In my opinion, Mr. Crayne has sufficient vision to perform the driving tasks required to operate a commercial vehicle.” Mr. Crayne reported that he has driven tractor-trailer combinations for 35 years, accumulating 2.1 million miles. He holds a Class A CDL from Washington. His driving record for the last 3 years shows one crash, and no convictions for moving violations in a CMV.

Ralph G. DeBardi

Mr. DeBardi, 42, has had retinopathy of prematurity in his right eye since birth. The best corrected visual acuity in his right eye is light perception only, and in his left eye, 20/25. Following an examination in 2009, his optometrist noted, “In my medical opinion, Mr. DeBardi has sufficient vision to perform the driving tasks required to operate a commercial vehicle.” Mr. DeBardi reported that he has driven straight trucks for 15 years, accumulating 352,500 miles. He holds a Class D operator's license from West Virginia. His driving record for the last 3 years shows no crashes and no convictions for moving violations in a CMV.

James A. DuBay

Mr. DuBay, 48, has had optic nerve hyperplasia, and apparent fibrotic scaring of the posterior hole in his left eye since birth. The best corrected visual acuity in his right eye is 20/20, and in his left eye, count-finger vision. Following an examination in 2009, his optometrist noted, “I believe Mr. Dubay's Mr. DuBay has the visual skills required to perform the driving tasks required to operate a commercial vehicle.” Mr. DuBay reported that he has driven straight trucks for 30 years, accumulating 900,000 miles. He holds a Class C chauffeur's license from Michigan. His driving record for the last 3 years shows no crashes and no convictions for moving violations in a CMV.

Chad D. Grose

Mr. Grose, 40, has had amblyopia in his right eye since birth. The best corrected visual acuity in his right eye is 20/400, and in his left eye, 20/20. Following an examination in 2009, his optometrist noted, “In my medical opinion, your vision is stable and more than adequate for you to perform the driving task required to operate a commercial vehicle.” Mr. Grose reported that he has driven straight trucks for 18 years, accumulating 324,000 miles. He holds a Class D operator's license from Illinois. His driving record for the last 3 years shows no crashes and no convictions for moving violations in a CMV.

Donald E. Halvorson

Mr. Halvorson, 57, has complete loss of vision in his right eye due to a traumatic injury sustained in early 1990. The visual acuity in his left eye is 20/20. Following an examination in 2009, his ophthalmologist noted, “It is my medical opinion that Mr. Halvorson has the necessary vision to see and operate a commercial vehicle safely.” Mr. Halvorson reported that he has driven straight trucks for 5 years, accumulating 50,000 miles, and tractor-trailer combinations for 25 years, accumulating 450,000 miles. He holds a Class A CDL from New Mexico. His driving record for the last 3 years shows no crashes and no convictions for moving violations in a CMV.

Gerald Harrison

Mr. Harrison, 59, has had amblyopia in his left eye since birth. The best corrected visual acuity in his right eye is 20/40, and in his left eye, 20/200. Following an examination in 2009, his optometrist noted, “In my opinion, he has sufficient vision to operate a commercial vehicle.” Mr. Harrison reported that he has driven tractor-trailer combinations for 30 years, accumulating 3 million miles. He holds a Class A CDL from Florida. His driving record for the last 3 years shows no crashes and one conviction for a moving violation in a CMV; failure to obey a traffic control device.

Roger D. Kool

Mr. Kool, 54, has had central serous retinopathy in his left eye since 2005. The best corrected visual acuity in his right eye is 20/20, and in his left eye, 20/800. Following an examination in 2009, his optometrist noted, “It is my medical opinion that Roger has sufficient vision to perform the driving tasks required to operate a commercial vehicle.” Mr. Kool reported that he has driven straight trucks for 15 years, accumulating 37,500 miles, and tractor-trailer combinations for 15 years, accumulating 15,000 miles. He holds a Class A CDL from Iowa. His driving record for the last 3 years shows no crashes and no convictions for moving violations in a CMV.

Curtis M. Lawless

Mr. Lawless, 54, has wet macular degeneration in his right eye. The visual acuity in his right eye is 20/200, and in his left eye, 20/20. Following an examination in 2009, his ophthalmologist noted, “I certify that in medical opinion, Mr. Lawless has sufficient vision to perform the driving tasks required to operate a commercial vehicle.” Mr. Lawless reported that he has driven straight trucks for 10 years, accumulating 150,000 miles, and tractor-trailer combinations for 21 years, accumulating 1.3 million miles. He holds a Class A CDL from Virginia. His driving record for the last 3 years shows one crash and one conviction for a moving violation in a CMV. He failed to yield the right of way to another vehicle.

Michael E. Lindquist

Mr. Lindquist, 50, has had amblyopia in his right eye since childhood. The best corrected visual acuity in his right eye is 20/20, and in his left eye, 20/50. Following an examination in 2009, his optometrist noted, “I certify that Michael Lindquist has sufficient and stable visual acuity to perform and operate a commercial motor vehicle in interstate commerce.” Mr. Lindquist reported that he has driven straight trucks for 4 years, accumulating 93,600 miles. He holds a Class B CDL from Washington. His driving record for the last 3 years shows no crashes and no convictions for moving violations in a CMV.

Philip J.C. Locke

Mr. Locke, 39, has had amblyopia in his right eye since birth. The best corrected visual acuity in his right eye is 20/300 and in his left eye, 20/20. Following an examination in 2009, his ophthalmologist noted, “In my opinion, the patient continues to have sufficient vision to perform driving tasks required to operate a commercial vehicle.” Mr. Locke reported that he has driven straight trucks for 20 years, accumulating 200,000 miles, and tractor-trailer combinations for 18 years, accumulating 1.4 million miles. He holds a Class A CDL from Colorado. His driving record for the last 3 years shows no crashes and no convictions for moving violations in a CMV.

Travis J. Luce

Mr. Luce, 36, has had amblyopia in his left eye since childhood. The best corrected visual acuity in his right eye is 20/20, and in his left eye, 20/200. Following an examination in 2009, his optometrist noted, “In my opinion, Travis has sufficient visual ability to operate a commercial vehicle.” Mr. Luce reported that he has driven straight trucks for 2 years, accumulating 20,000 miles, and tractor-trailer combinations for 7 years, accumulating 175,000 miles. He holds a Class A CDL from Michigan. His driving record for the last 3 years shows no crashes and no convictions for moving violations in a CMV.

Cameron S. McMillen

Mr. McMillen, 56, has had amblyopia in his right eye since childhood. The best corrected visual acuity in his right eye is count-finger-vision, and in his left eye, 20/25. Following an examination in 2009, his ophthalmologist noted, “In my opinion, Scott has adequate visual function to operate a commercial vehicle.” Mr. McMillen reported that he has driven straight trucks for 38 years, accumulating 380,000 miles, and tractor-trailer combinations for 18 years, accumulating 1.7 million miles. He holds a Class A CDL from New Mexico. His driving record for the last 3 years shows no crashes and no convictions for moving violations in a CMV.

Carl L. Miles

Mr. Miles, 58, has had amblyopia in his left eye since childhood. The best corrected visual acuity in his right eye is 20/20, and in his left eye 20/200. Following an examination in 2009, his optometrist noted, “Based upon my findings and medical expertise, I hereby certify Carl Miles to be visually able to safely operate a commercial motor vehicle.” Mr. Miles reported that he has driven straight trucks for 14 years, accumulating 1.4 million miles, and tractor-trailer combinations for 8 years, accumulating 600,000 miles. He holds a Class A CDL from Kentucky. His driving record for the last 3 years shows no crashes and no convictions for moving violations in a CMV.

Rashawn L. Morris

Mr. Morris, 28, has loss of vision in his left eye since birth. The best corrected visual acuity in his right eye is 20/20, and in his left eye, count-finger vision. Following an examination in 2009, his ophthalmologist noted, “I explained to Mr. Morris that his visual status appears to be stable and that I believe he can see well enough to perform all the tasks required to operate a commercial vehicle.” Mr. Morris reported that he has driven straight trucks for 5 years, accumulating 50,000 miles. He holds a Class A CDL from Virginia. His driving record for the last 3 years shows no crashes and no convictions for moving violations in a CMV.

Brian T. Nelson

Mr. Nelson, 43, has loss of vision in his left eye due to retinopathy since 1988. The best corrected visual acuity in his right eye is 20/40 and in his left eye, 20/200. Following an examination in 2009, his ophthalmologist noted, “In my opinion, Brian Nelson has sufficient vision to perform the driving tasks required to operate a commercial vehicle.” Mr. Nelson reported that he has driven straight trucks for 19 years, accumulating 114,000 miles, and tractor-trailer combinations for 16 years, accumulating 64,000 miles. He holds a Class A CDL from Minnesota. His driving record for the last 3 years shows no crashes and no convictions for moving violations in a CMV.

James C. New

Mr. New, 66, has had aphakia and macular scarring in his left eye since 1965. The best corrected visual acuity in his right eye is 20/20, and in his left eye, count-finger vision. Following an examination in 2009, his optometrist noted, “It is my opinion that Mr. New has sufficient vision to perform the commercial driving tasks in question.” Mr. New reported that he has driven straight trucks for 2 years, accumulating 54,000 miles, and tractor-trailer combinations for 38 years, accumulating 2.7 million miles. He holds a Class D operator's license from Mississippi. His driving record for the last 3 years shows no crashes and no convictions for moving violations in a CMV.

Thomas E. O'Compo

Mr. O'Compo, 42, has had exotropia in his right eye since birth. The best corrected visual acuity in his right eye is 20/80, and in his left eye, 20/20. Following an examination in 2009, his optometrist noted, “In my opinion. Mr. O'Compo has sufficient vision to perform the driving tasks required to operate a commercial vehicle.” Mr. O'Compo reported that he has driven straight trucks for 4 years, accumulating 100,000 miles, and tractor-trailer combinations for 9 years, accumulating 360,000 million miles. He holds a Class A CDL from California. His driving record for the last 3 years shows no crashes and no convictions for moving violations in a CMV.

Christopher M. Rivera

Mr. Rivera, 37, has had amblyopia in his left eye since birth. The best corrected visual acuity in his right eye is 20/20, and in his left eye, 20/200. Following an examination in 2009, his optometrist noted, “I certify that in my opinion, Christopher Rivera has sufficient vision to perform the driving tasks to operate a commercial vehicle.” Mr. Rivera reported that he has driven straight trucks for 9 years, accumulating 60,300 miles, and tractor-trailer combinations for 9 years, accumulating 60,300 miles. He holds a Class A CDL from New Mexico. His driving record for the last 3 years shows no crashes, and one conviction for speeding in a CMV. He exceeded the speed limit by 5mph.

Richard J. Robb

Mr. Robb, 55, has had amblyopia in his left eye since childhood. The best corrected visual acuity in his right eye is 20/15, and in his left eye, 20/300. Following an examination in 2009, his ophthalmologist noted, “It is my medical opinion that Mr. Robb has the necessary vision to see and operate a commercial vehicle safely.” Mr. Robb reported that he has driven straight trucks for 5 years, accumulating 142,500 miles, and tractor-trailer combinations for 20 years, accumulating 750,000 miles. He holds a Class A CDL from New Mexico. His driving record for the last 3 years shows no crashes and no convictions for moving violations in a CMV.

Larry L. Sapp

Mr. Sapp, 44, has a prosthetic left eye due to a traumatic injury since childhood. The visual acuity in his right eye is 20/20. Following an examination in 2009, his optometrist noted, “Mr. Sapp has sufficient vision to perform driving tasks required to operate a commercial vehicle.” Mr. Sapp reported that he has driven straight trucks for 9 years, accumulating 36,000 miles. He holds a Class O operator's license from Michigan. His driving record for the last 3 years shows no crashes and no convictions for moving violations in a CMV.

Temesgn H. Teklezig

Mr. Teklezig, 31, has loss of vision in his right eye due to a traumatic injury sustained 13 years ago. The visual acuity in his right eye is 20/200 and in his left eye, 20/20. Following an examination in 2009, his ophthalmologist noted, “In my professional opinion, Mr. Teklezig has sufficient vision to drive a commercial vehicle.” Mr. Teklezig reported that he has driven straight trucks for 7 years, accumulating 252,000 miles, and tractor-trailer combinations for 3 years, accumulating 111,000 miles. He holds a Class A CDL from Washington. His driving record for the last 3 years shows no crashes and no convictions for moving violations in a CMV.

Robert E. Whitney

Mr. Whitney, 71, has complete loss of vision in his left eye due to an injury sustained as a child. The best corrected visual acuity in his left eye is 20/25. Following an examination in 2009, his optometrist noted, “In my opinion, he has sufficient vision to operate a commercial vehicle.” Mr. Whitney reported that he has driven straight trucks for 3 years, accumulating 40,500 miles. He holds a Class D operator's license from Illinois. His driving record for the last 3 years shows no crashes and no convictions for moving violations in a CMV.

Robert D. Williams

Mr. Williams, 57, has a prosthetic right eye due to a traumatic injury since 1986. The best corrected visual acuity in his left eye is 20/20. Following an examination in 2009, his optometrist noted, “Vision is sufficient to operate a commercial vehicle.” Mr. Williams reported that he has driven straight trucks for 38 years, accumulating 692,018 miles. He holds a Class E operator's license from Louisiana. His driving record for the last 3 years shows no crashes and no convictions for moving violations in a CMV.

James M. Wood

Mr. Wood, 59, has had amblyopia in his left eye since birth. The best corrected visual acuity in his right eye is 20/20, and in his left eye, 20/200. Following an examination in 2009, his optometrist noted, “His vision should not preclude him from operating a commercial vehicle.” Mr. Wood reported that he has driven straight trucks for 13½ years, accumulating 474,997 miles. He holds a Class B CDL from North Carolina. His driving record for the last 3 years shows no crashes and no convictions for moving violations in a CMV.

Request for Comments

In accordance with 49 U.S.C. 31136(e) and 31315, FMCSA requests public comment from all interested persons on the exemption petitions described in this notice. The Agency will consider all comments received before the close of business December 21, 2009. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on November 12, 2009.
Larry W. Minor,
Associate Administrator for Policy and Program Development.

[FR Doc. E9-27840 Filed 11-18-09; 8:45 am]

BILLING CODE 4910-EX-P